DEPARTMENT OF ENERGY

Federal Energy Regulatory Commission

[Project No. 13135-003]

City of Watervliet; Notice of Intent To File License Application, Filing of Pre-Application Document, and Approving Use of the Traditional Licensing Process

a. Type of Filing: Notice of Intent to File License Application and Request to Use the Traditional Licensing Process.

b. Project No.: 13135-003.

c. Date Filed: February 27, 2012.

d. Submitted By: City of Watervliet.

e. Name of Project: Delta Hydroelectric Project.

f. Location: On the Mohawk River, in Oneida County, New York. No federal lands are occupied by the project works or located within the project boundary.

g. Filed Pursuant to: 18 CFR 5.3 of the Commission's regulations.

h. Potential Applicant Contact: Mr. Mark Gleason, General Manager, City of Watervliet, City Hall, Watervliet, NY 12189 (518) 270-3800 x 122.

i. FERC Contact: Brandi Sangunett at (202) 502-8393; or email at brandi.sangunett@ferc.gov.

j. The City of Watervliet filed its request to use the Traditional Licensing Process on February 27, 2012. The City of Watervliet provided public notice of its request on February 29, 2012. In a letter dated April 12, 2012, the Director of the Division of Hydropower Licensing approved the City of Watervliet's request to use the Traditional Licensing Process.

k. With this notice, we are initiating informal consultation with: (a) The U.S. Fish and Wildlife Service under section 7 of the Endangered Species Act and the joint agency regulations thereunder at 50 CFR, Part 402; (b) NOAA Fisheries under section 305(b) of the Magnuson-Stevens Fishery Conservation and Management Act and implementing regulations at 50 CFR 600.920; and (c) the New York State Historic Preservation Officer, as required by section 106, National Historical Preservation Act, and the implementing regulations of the Advisory Council on Historic Preservation at 36 CFR 800.2.

l. The City of Watervliet filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: April 12, 2012.
Kimberly D. Bose,
Secretary.

[FR Doc. 2012-9368 Filed 4-18-12; 8:45 am]

BILLING CODE 6717-01-P